NATIONAL AERONAUTICS AND SPACE ADMINISTRATION

48 CFR Parts 1803, 1816, and 1852

RIN 2700-AE08

NASA Federal Acquisition Regulation Supplement (NFS); Contractor Whistleblower Protections

AGENCY: National Aeronautics and Space Administration.

ACTION: Final rule.

SUMMARY: NASA has adopted, without change, an interim rule amending the NASA FAR Supplement (NFS) to implement Contractor Whistleblower Protections.

DATES: Effective date: April 1, 2015.

FOR FURTHER INFORMATION CONTACT: Leigh Pomponio, NASA, Office of Procurement, Contract and Grant Policy Division, 300 E Street SW. (Suite 5K32), Washington, DC 20546; (202) 358-0592; email: leigh.pomponio@NASA.gov.

SUPPLEMENTARY INFORMATION:

A. Background

An interim rule was published on July 29, 2014 (79 FR 43958) implementing 10 U.S.C. 2409, as amended by section 846 of the national Defense Authorization Act for FY 2008 (Pub. L. 110-181) and section 827 of the National Defense Authorization Act for FY 2013 (Pub. L. 112-239). The interim rule implemented Whistleblower protections for contractor employees performing under contracts with NASA.

On August 29, 2014, technical amendments to the interim rule were published in the Federal Register (79 FR 51501). The technical amendments corrected the numbering of two sections. NASA received no comments on the interim rule and has adopted the interim rule as a final rule without change.

B. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This rule is not a major rule under 5 U.S.C. 804.

C. Regulatory Flexibility Act

NASA certifies that this final rule will not have a significant economic impact on a substantial number of small entities within the meaning of the Regulatory Flexibility Act, at 5 U.S.C. 601, et seq., because it does not alter the solicitation or contract polices or procedures, nor does it create whistleblower protections for contractor employees. Such protections currently exist and this case sets forth requirements for contractors to notify employees of their rights and includes procedures and processes for contractor employees to exercise their rights.

D. Paperwork Reduction Act

This final rule does not contain any information collection requirements that require the approval of the Office of Management and Budget under 44 U.S.C. 3501, et seq. in accordance with The Paperwork Reduction Act.

List of Subjects in 48 CFR Parts 1803, 1816, and 1852

Government procurement.

Cynthia D. Boots,
Alternate Federal Register Liaison.

PARTS 1803, 1816, AND 1852—[AMENDED]

Accordingly, the interim rule amending 48 CFR parts 1803, 1816, and 1852 which was published at 79 FR 43958 on July 29, 2014, and technically amended by publication at 79 FR 51501, is adopted as a final rule without change.

[FR Doc. 2015-04227 Filed 2-27-15; 8:45 am]

BILLING CODE 7510-13-P